DEPARTMENT OF HEALTH AND HUMAN SERVICES

Administration for Children and Families

[Program Announcement No. OCS-2001-5]

Request for Applications Under the Office of Community Services' Fiscal Year 2001 Community Food and Nutrition Program

AGENCY: Office of Community Services, Administration for Children and Families, Department of Health and Human Services.

ACTION: Request for applications under the Office of Community Services' Community Food and Nutrition Program (CFNP).

SUMMARY: The Administration for Children and Families (ACF), Office of Community Services (OCS), announces that competing applications will be accepted for new grants pursuant to the Secretary's discretionary authority under Section 681 of the Community Services Block Grant Act, as amended. This Program Announcement contains forms and instructions for submitting an application. The awarding of grants under this Program Announcement is subject to the availability of funds for support of these activities.

DATES: The closing date for submission of applications is May 25, 2001. Mailed applications postmarked after the closing date will be classified as late.

FOR FURTHER INFORMATION, CONTACT: Administration for Children and Families, Office of Community Services, Division of Community Discretionary Programs, 370 L'Enfant Promenade S.W., Washington DC 20447. Contact: Catherine Rivers, Phone: (202) 401-5252, Fax: (202) 401-4687.

This Program Announcement is accessible on the OCS web site for reading or downloading at: www.acf.dhhs.gov/programs/ocs/kits1.htm

The Catalog of Federal Domestic Assistance number for this program is 93.571. The title is Community Food and Nutrition Program.

Application Submission

Mailing Address: CFNP applications should be mailed to the U.S. Department of Health and Human Services, Administration for Children and Families, Office of Grants Management/OCSE, 4th Floor West, Aerospace Center, 370 L'Enfant Promenade, SW, Washington, D.C. 20447; Attention: Application for Community Food and Nutrition Program.

Number of Copies Required: One signed original application and four copies should be submitted at the time of initial submission. (OMB-0970-0062, expiration date 10/31/2001).

Submission Instructions: Mailed applications shall be considered as meeting an announced deadline if they are either received on or before the deadline date or sent on or before the deadline date and received by ACF in time for the independent review.

Applications mailed must bear a legibly dated U.S. Postal Service postmark or a legibly dated, machine produced postmark of a commercial mail service affixed to the envelope/package containing the application(s). To be acceptable as proof of timely mailing, a postmark from a commercial mail service must include the logo/emblem of the commercial mail service company and must reflect the date the package was received by the commercial mail service company from the applicant. Private metered postmarks shall not be acceptable as proof of timely mailing. (Applicants are cautioned that express/overnight mail services do not always deliver as agreed.)

Applications handcarried by applicants, applicants' couriers, or by other representatives of the applicant shall be considered as meeting an announced deadline if they are received on or before the deadline date, between the hours of 8:00 a.m. and 4:30 p.m., EST, at the U.S. Department of Health and Human Services, Administration for Children and Families, Office of Grants Management/OCSE, ACF Mailroom, 2nd Floor Loading Dock, Aerospace Center, 901 D Street, SW, Washington, D.C. 20024, between Monday and Friday (excluding Federal holidays). The address must appear on the envelope/package containing the application with the note: Attention: Application for Community Food and Nutrition Program. (Applicants are again cautioned that express/overnight mail services do not always deliver as agreed.)

ACF cannot accommodate transmission of applications by fax or through other electronic media. Therefore, applications transmitted to ACF electronically will not be accepted regardless of date or time of submission and time of receipt.

Once submitted, applications are considered final and no additional materials will be accepted.

Late Applications: Applications which do not meet the criteria above are considered late applications. ACF shall notify each late applicant that its application will not be considered in the current competition.

Extension of Deadlines: ACF may extend application deadlines when circumstances such as acts of God (floods, hurricanes, etc.) occur, or when there are widespread disruptions of the mail service. Determinations to extend or waive deadline requirements rest with ACF's Chief Grants Management Officer.

Table of Contents

Part A—Preamble

1. Legislative Authority

2. Definitions of Terms

3. Purpose of Community Food and Nutrition Program

4. Project Requirements

Part B—Application Requirements

1. Eligible Applicants

2. Availability of Funds and Grant Amounts

3. Project Periods and Budget Periods

4. Administrative Costs/Indirect Costs

5. Program Beneficiaries

6. Number of Projects in Application

7. Multiple Submittal

8. Sub-Contracting or Delegating Projects

Part C—Program Priority Area

1. General Projects

2. Nationwide Programs

Part D—Review Criteria

Criteria for Review and Evaluation of Applications Submitted Under this Program Announcement

Part E—Instructions for Completing Application Package

1. SF-424—Application for Federal Assistance

2. SF-424A—Budget Information—Non-Construction

3. SF-424B—Assurances—Non-Construction Programs

4. Project Narrative

Part F—Application Procedures

1. Availability of Forms

2. Intergovernmental Review

3. Application Consideration

4. Criteria for Screening Applications

Part G—Contents of Application Package and Receipt Process

1. Contents of Application

2. Acknowledgement of Receipt

Part H—Post Award Information and Reporting Requirements

Attachments

A DHHS Poverty Guidelines

B-1 Standard Form 424, Application for Federal Assistance

B-2 Standard Form 424A, Budget Information—Non-Construction Programs

B-3 Standard Form 424B, Assurances—Non-Construction Programs

C-1 Certification Regarding Lobbying

C-2 Standard Form LLL, Disclosure Of Lobbying Activities

D Certification Regarding Drug-Free Workplace Requirements

E Certification Regarding Debarment, Suspension, And Other Responsibility Matters

F Certification Regarding Environmental Tobacco Smoke

G State Single Point Of Contact Listing Maintained By OMB

H DHHS Regulations Applying To All Applicants/Grantees Under The Community Food and Nutrition Program

I Applicant's Checklist

Part A—Preamble

1. Legislative Authority

The Community Services Block Grant Act, as amended, authorizes the Secretary of Health and Human Services to make funds available under several programs to support program activities which will result in direct benefits targeted to low-income people. This Program Announcement covers the grant authority found at Section 681 of the Community Services Block Grant Act, as amended by the Community Opportunities, Accountability, and Training and Educational Services Act of 1998, Community Food and Nutrition Programs, which authorizes the Secretary to make funds available for grants to be awarded on a competitive basis to eligible entities for community-based, local and statewide programs (1) to coordinate private and public food assistance resources, wherever the grant recipient involved determines such coordination to be inadequate, to better serve low-income populations; (2) to assist low-income communities to identify potential sponsors of child nutrition programs and to initiate such programs in underserved or unserved areas; and (3) to develop innovative approaches at the State and local level to meet the nutrition needs of low-income individuals.

The Act also requires that 20 percent of the appropriated funds in excess of $6 million be awarded on a competitive basis to eligible agencies for nationwide programs, including programs benefiting Native Americans and migrant or seasonal farmworkers.

2. Definitions of Terms

For purposes of this Program Announcement, the following definitions apply:

Budget period: The term “budget period” refers to the interval of time into which a grant period of assistance (project period) is divided for budgetary and funding purposes.

Displaced worker: An individual who is in the labor market but has been unemployed for six months or longer.

Eligible entity: State and local governments, as well as Indian tribes, and public and private nonprofit agencies/organizations including Community Action Agencies. (See Part B-1).

Empowerment Zones and Enterprise Communities: Those Communities designated as such by the Secretary of Agriculture or the Secretary of Housing and Urban Development.

Indian tribe: A tribe, band, or other organized group of Native American Indians recognized in the State or States in which it resides or considered by the Secretary of the Interior to be an Indian tribe or an Indian organization for any purpose.

Innovative project: One that departs from or significantly modifies past program practices and tests a new approach.

Migrant farmworker: An individual who works in agricultural employment of a seasonal or other temporary nature who is required to be absent from his/her place of permanent residence in order to secure such employment.

Program income: Gross income earned by the grant recipient that is directly generated by an activity supported with grant funds.

Project period: The total time for which a project is approved for support, including any approved extensions.

Seasonal farmworker: Any individual employed in agricultural work of a seasonal or other temporary nature who is able to remain at his/her place of permanent residence while employed.

Self-sufficiency: A condition where an individual or family does not need and is not eligible for public assistance.

Underserved area (as it pertains to child nutrition programs): A locality in which less than one-half of the low-income children eligible for assistance participate in any child nutrition program.

3. Purpose of Community Food and Nutrition Program

The Department of Health and Human Services (DHHS) is committed to improving the overall health and nutritional well-being of individuals through improved preventive health care and promotion of personal responsibility. The DHHS encourages the approach to health promotion and nutritional responsibility with personal messages aimed at families and communities, in various settings and environments in which individuals and groups can most effectively be reached.

The DHHS is specifically interested in improving the health and nutrition status of low-income persons through improved access to healthy nutritious foods or by other means. The DHHS encourages community efforts to improve the coordination and integration of health and social services for all low-income families, and to identify opportunities for collaborating with other programs and services for this population. Such collaboration can increase a community's capacity to leverage resources and promote an integrated approach to health and nutrition through existing programs and services.

4. Project Requirements

Projects funded under this program should:

(a) Be designed and intended to provide nutrition benefits, including those which incorporate the benefits of disease prevention, to a targeted low-income group of people;

(b) Provide outreach and public education to inform eligible low-income individuals and families of other nutritional services available to them under the various Federally-assisted programs;

(c) Carry out targeted communications/social marketing to improve dietary behavior and increase program participation among eligible low-income populations. Populations to be targeted can include displaced workers, elderly people, children, and the working poor.

(d) Consult with and/or inform local offices that administer other food programs such as W.I.C. and Food Stamps, where applicable, to ensure effective coordination which can jointly target services to increase their effectiveness. Such consultation may include involving these offices in the planning of grant applications.

(e) Focus on one or more legislatively-mandated program activities: (1) Coordination of private and public food assistance resources, wherever the grant recipient involved determines such coordination to be inadequate, to better serve low-income populations; (2) assistance to low-income communities in identifying potential sponsors of child nutrition programs and initiating such programs in unserved or underserved areas; and (3) development of innovative approaches at the state and local level to meet the nutrition needs of low-income individuals.

The OCS views this program as a capacity building program, rather than as a service delivery program.

Part B—Application Requirements

1. Eligible Applicants

Eligible applicants are State and local governments, as well as Indian tribes, and public and private nonprofit agencies/organizations with a demonstrated ability to successfully develop and implement programs and activities similar to those enumerated above. The OCS encourages Historically Black Colleges and Universities and minority institutions to submit applications. Eligible applicants with programs benefiting Native Americans and migrant or seasonal farmworkers are also encouraged to submit applications.

Any nonprofit organization submitting an application must submit proof of its nonprofit status in its application at the time of submission. The nonprofit agency can accomplish this by providing a copy of the applicant's listing in the Internal Revenue Service's (IRS) most recent list of tax-exempt organizations described in Section 501 (c)(3) of the IRS tax code or by providing a copy of the currently valid IRS tax exemption certificate, or by providing a copy of the applicant's Articles of Incorporation bearing the seal of the State in which the corporation or association is domiciled.

2. Availability of Funds and Grant Amounts

a. Fiscal Year 2001 Funding

The funds available for grant awards under the CFNP in Fiscal Year 2001 are:

General Projects: $2,526,000

Nationwide Programs: $63,000

All grant awards are subject to the availability of appropriated funds.

b. Grant Amounts

No individual grant application will be considered for an amount in excess of $50,000 for applications submitted under General Projects. No eligible organization may receive more than $63,000 for a nationwide program.

c. Mobilization of Resources

The OCS would like to mobilize as many resources as possible to enhance projects funded under this program. The OCS supports and encourages applications submitted by applicants whose programs will leverage other resources, either cash or third party in-kind.

3. Project Periods and Budget Periods

For most projects, OCS will grant funds for one year. However, in rare instances, depending on the characteristics of any individual project and on the justification presented by the applicant in its application, a grant may be made for a period of up to 17 months.

4. Administrative Costs/Indirect Costs

There is no administrative cost limitation for projects funded under this program. Indirect costs consistent with approved indirect cost rate agreements are allowable. Applicants should enclose a copy of the current approved rate agreement. However, it should be understood that indirect costs are part of, and not in addition to, the amount of funds awarded in the subject grant.

5. Program Beneficiaries

Projects proposed for funding under this Announcement must result in direct benefits targeted toward low-income people as defined in the most recent annual update of the Poverty Income Guidelines published by DHHS. Attachment A to this Announcement is an excerpt from the most recently published guidelines. Annual revisions of these guidelines are normally published in the Federal Register in February or early March of each year and are applicable to projects being implemented at the time of publication. Grantees will be required to apply the most recent guidelines throughout the project period. The Federal Register may be obtained from public libraries, Congressional offices, or by writing the Superintendent of Documents, U.S. Government Printing Office, Washington, DC 20402. The Federal Register is also available on the Internet through GPO Access at the following web address: http://www.access.gpo.gov/su_docs/aces/aces140.html.

No other government agency or privately defined poverty guidelines are applicable to the determination of low-income eligibility for this OCS program.

6. Number of Projects in Application

An application may contain only one project and this project must address the basic criteria found in Parts C and D of this Program Announcement. Applications which are not in compliance with these requirements will be ineligible for funding.

7. Multiple Submittal

There is no limit to the number of applications that can be submitted by an eligible applicant as long as each application is for a different project. However, no applicant can receive more than one grant.

8. Sub-Contracting or Delegating Projects

The OCS will not fund any project where the role of the eligible applicant is primarily to serve as a conduit for funds to other organizations.

Part C—Program Priority Areas

1. General Projects—FN

The application should include a description of the target area and population to be served as well as a discussion of the nature and extent of the problem to be solved. The application must contain a detailed and specific work program that is both sound and feasible. Projects funded under this Announcement must produce permanent and measurable results that fulfill the purposes of this program as described above. The OCS grant funds, in combination with private and/or other public resources, must be targeted to low-income individuals and communities.

Applicants will certify in their submission that projects will only serve the low-income population as stipulated in the DHHS Poverty Income Guidelines (Attachment A). Failure to comply with the income guidelines may result in the application being ineligible for consideration for funding.

If an applicant is proposing a project which will affect a property listed in or eligible for inclusion in the National Register of Historic Places, it must identify this property in the narrative and explain how it has complied with the provisions of Section 106 of the National Historic Preservation Act of 1966, as amended. If there is any question as to whether the property is listed in or is eligible for inclusion in the National Register of Historic Places, applicant should consult with the State Historic Preservation Officer. The applicant should contact OCS early in the development of its application for instructions regarding compliance with the Act and data required to be submitted to DHHS.

In the case of projects proposed for funding which mobilize or improve the coordination of existing public and private food assistance resources, the guidelines governing those resources apply. However, in the case of projects providing direct assistance to beneficiaries through grants funded under this program, beneficiaries must fall within the official DHHS Poverty Income Guidelines as set forth in Attachment A.

Applications that propose the use of grant funds for the development of any printed or visual materials must contain convincing evidence that these materials are not available from other sources. The OCS will not provide funding for such items if justification is not sufficient. Approval of any films or visual presentations proposed by applicants approved for funding will be made part of the grant award. In cases where material outlays for equipment (audio and visual) are requested, specific evidence must be presented that there is a definite programmatic connection between the equipment (audio and visual) usage and the outreach requirements described in Part A-3 of this Announcement.

The OCS is also interested in projects that address the needs of homeless families and welcomes applications that seek to develop innovative approaches to promote health and nutritional awareness among low-income populations.

2. Nationwide Programs—NP

Projects funded must be nationwide in scope and must meet the requirements of Part C-1 (General Projects). No eligible organization may receive more than $63,000 for a nationwide program.

Part D—Review Criteria

Applications that pass the initial screening and pre-rating review (see Part F, section 4) will be assessed and scored by reviewers. Each reviewer will give a numerical score for each application reviewed. These numerical scores will be supported by explanatory statements on a formal rating form describing major strengths and weaknesses under each applicable criterion published in the Announcement.

The in-depth evaluation and review process will use the following criteria coupled with the specific requirements as described in Part F.

When writing their Project Narrative, applicants should respond to the review criteria using the same sequential order.

Note: The following review criteria reiterate the information requirements contained in Part A of this Announcement.

Criteria for Review and Evaluation of Applications Submitted Under This Program Announcement

Criterion I: Analysis of Needs/Priorities (Maximum: 10 Points)

(1) Target area and population to be served are adequately described. (0-4 Points)

In addressing the above criterion, the applicant should include a description of the target area and population to be served including specific details on any minority population(s) to be served.

(2) Nature and extent of problem(s) and/or need(s) to be addressed are adequately described and documented. (0-6 Points)

In addressing the above criterion, the applicant should include a discussion of the nature and extent of the problem(s) and/or need(s), including specific information on minority populations(s).

Criterion II: Adequacy of Work Program (Maximum: 25 Points)

(1) Realistic quarterly time targets are set forth by which the various work tasks will be completed. (0-10 Points)

(2) Activities are adequately described and appear reasonably likely to achieve results which will have a desired impact on the identified problems and/or needs. (0-15 Points)

In addressing the above criterion, the applicant should address the basic criteria and other mandated activities found in Part A-4 and should include:

a. Project priorities and rationale for selecting them which relate to the specific nutritional problem(s) and/or need(s) of the target population which were identified under Criterion I;

b. Goals and objectives that speak to the(se) problem(s) and/or need(s); and

c. Project activities that, if successfully carried out, can be reasonably expected to result in the achievement of these goals and objectives.

Criterion III: Significant and Beneficial Impact (Maximum: 30 Points)

(1) Applicant proposes to significantly improve or increase nutrition services to low-income people and such improvements or increases are quantified. (0-15 Points)

(2) Project incorporates promotional health and social services activities for low-income people, along with nutritional services. (0-5 Points)

(3) Project will significantly leverage or mobilize other community resources and such resources are detailed and quantified. (0-5 Points)

(4) Project addresses problem(s) that can be resolved by one-time OCS funding or demonstrates that non-Federal funding is available to continue the project without Federal support. (0-5 Points)

In addressing the above criterion, the applicant must include quantitative data for items (1), (2), and (3), and discuss how the beneficial impact relates to the relevant legislatively-mandated program activities identified in Part A-1 and the problems and/or needs described under Criterion I.

Criterion IV: Coordination/Services Integration (Maximum: 15 Points)

(1) Project shows evidence of coordinated community-based planning in its development, including strategies in the work program to carry on activities in collaboration with other locally-funded Federal programs (such as DHHS health and social services and USDA Food and Consumer Service programs) in ways that will eliminate duplication and will, for example, (1) unite funding streams at the local level to increase program outreach and effectiveness, (2) facilitate access to other needed social services by coordinating and simplifying intake and eligibility certification processes for clients, or (3) bring project participants into direct interaction with holistic family development resources in the community where needed. (0-10 Points)

(2) Community Empowerment Consideration—Special consideration will be given to applicants who are located in areas which are characterized by poverty and other indicators of socio-economic distress such as a poverty rate of at least 20 percent, designation as an Empowerment Zone or Enterprise Community, high levels of unemployment, and high levels of incidences of violence, gang activity, crime, or drug use. Applicants should document that they were involved in the preparation and planned implementation of a comprehensive community-based strategic plan to achieve both economic and human development in an integrated manner. (0-5 Points)

If the applicant is receiving funds from the State for community food and nutrition activities, the applicant should address how the funds are being utilized, and how they will be coordinated with the proposed project to maximize the effectiveness of both. If State funds are being used in the project for which OCS funds are being requested, their usage should be specifically described.

Criterion V: Organizational Experience in Program Area and Staff Responsibilities (Maximum: 15 Points)

(1) Organizational experience in program area (0-5 Points).

Documentation provided indicates that projects previously undertaken have been relevant and effective and have provided permanent benefits to the low-income population. Organizations that propose providing training and technical assistance have detailed competence in the program area and as a deliverer with expertise in the fields of training and technical assistance. If applicable, information provided by these applicants also addresses related achievements and competence of each cooperating or sponsoring organization.

(2) Management History (0-5 Points).

Applicants must demonstrate their ability to implement sound and effective management practices and if they have been recipients of other Federal or other governmental grants, they must also document that they have consistently complied with financial and program progress reporting and audit requirements. Such documentation may be in the form of references to any available audit or progress reports and should be accompanied by a statement by a Certified or Licensed Public Accountant as to the sufficiency of the applicant's financial management system to protect adequately any Federal funds awarded under the application submitted.

(3) Staffing Skills, Resources and Responsibilities (0-5 Points).

The application adequately describes the experience and skills of the proposed project director showing that the individual is not only well qualified, but that his/her professional capabilities are relevant to the successful implementation of the project. If the key staff person has not yet been identified, the application contains a comprehensive position description which indicates that the responsibilities to be assigned to the project director are relevant to the successful implementation of the project. The application must indicate that the applicant has adequate facilities and resources (i.e. space and equipment) to successfully carry out the work plan.

In addressing the above criterion, the applicant must clearly show that sufficient time of the Project Director and other senior staff will be budgeted to assure timely implementation and oversight of the project and that the assigned responsibilities of the staff are appropriate to the tasks identified for the project.

Criterion VI: Adequacy of Budget (Maximum: 5 Points)

The budget is adequate and administrative costs are appropriate in relation to the services proposed. (0-5 Points)

Part E—Instructions for Completing Application Package

The standard forms attached to this Announcement shall be used when submitting applications for all funds under this Announcement. It is recommended that you reproduce single-sided copies of the SF-424, SF-424A and SF-424B, and type your application on the copies. Please prepare your application in accordance with the instructions provided with the forms, as well as with the OCS specific instructions set forth below:

1. SF-424—Application for Federal Assistance (Attachment B-1)

Item 1. Type of Submission—For the purposes of this Announcement, all projects are considered Applications; there are no Pre-applications.

Item 2. Date Submitted and Applicant Identifier—Enter the date the application is submitted to ACF and the applicant's internal control number, if applicable.

Item 3. Date Received by State—N/A.

Item 4. Date Received by Federal Agency—Leave blank.

Items 5 & 6. Applicant Information & Employer Identification Number—The legal name of the applicant must match that listed as corresponding to the Employer Identification Number. Where the applicant is a previous DHHS grantee, enter the Central Registry System/Employee Identification Number (CRS/EIN) and the Payment Identifying Number (PIN), if one has been assigned, in the block entitled Federal Identifier located at the top right hand corner of the form.

Item 7. Type of Applicant—If the applicant is a nonprofit corporation, enter the letter “N” in the box and specify nonprofit corporation in the space marked “Other”. Proof of nonprofit status, such as IRS certification, Articles of Incorporation, or By-laws must be included as an appendix to the project narrative.

Item 8. Type of Application—Check “New”

Item 9. Name of Federal Agency—Enter “DHHS-ACF/OCS”

Item 10. The Catalog of Federal Domestic Assistance (CFDA) Number—The CFDA number for the OCS program covered under this Announcement is 93.571. The title is “Community Services Block Grant Discretionary Awards—Community Food and Nutrition Program”.

Item 11. Descriptive Title of Project—In addition to a brief descriptive title of the project, indicate the priority area for which funds are being requested. Use the following letter designations:

FN—General Projects

NP—Grants to organizations with nationwide programs

Item 12. Areas Affected by Project—List only the largest unit or units affected, such as State, county or city.

Item 13. Proposed Project Dates—Show 12-month project period. (See Part B-3) In addition, the project period start date must be on or before September 30, 2001.

Item 14. Congressional District of Applicant/Project—Enter the number(s) of the Congressional District where the applicant's principal office is located and the number(s) of the Congressional District(s) where the project will be located.

Item 15. Estimated Funding—15a. Show the total amount requested for the entire project period; 15b. thru 15e. For each line item, show both cash and third party in-kind contributions for the total project period; 15f. Show the estimated amount of program income for the total project period; 15g. Enter the sum of all the lines.

2. SF-424A—Budget Information—Non-Construction Programs (Attachment B-2)

See the instructions accompanying the Attachment as well as the instructions set forth below.

In completing these sections, the Federal funds budget entries will relate to the requested OCS Community Food and Nutrition Program funds only, and non-Federal will include mobilized funds from all other sources—applicants, State, and other Federal funds other than those requested from the Community Food and Nutrition Program should be included in non-Federal entries.

Sections A and D of SF-424A must contain entries for both Federal (OCS) and non-Federal mobilized funds.

Section A—Budget Summary

Lines 1-4

Column (a) Line 1—Enter OCS CFNP.

Column (b) Line 1—Enter 93.571.

Columns (c) and (d)—Not Applicable.

Columns (e), (f) and (g)—Line 1—Enter appropriate amounts needed to support the project for the entire project period.

Line 5

Enter the figures from Line 1 for all columns completed, (e), (f), and (g).

Section B—Budget Categories

This section should contain entries for OCS funds only. For all projects, the first budget period of 12 months will be entered in Column (1).

Allocability of costs is governed by applicable cost principles set forth in the Code of Federal Regulations (CFR), Title 45, Parts 74 and 92.

Budget estimates for administrative costs must be supported by adequate detail for the grants officer to perform a cost analysis and review. Adequately detailed calculations for each budget object class are those which reflect estimation methods, quantities, unit costs, salaries, and other similar quantitative detail sufficient for the calculation to be duplicated. For any additional object class categories included under the object class other, identify the additional object class(es) and provide supporting calculations.

Supporting narratives and justifications are required for each budget category, with emphasis on unique/special initiatives; large dollar amounts; local, regional, or other travel; new positions; major equipment purchases; and training programs.

A detailed itemized budget with a separate budget justification for each major item should be included as indicated below:

Line 6a

Personnel—Enter the total costs of salaries and wages.

Justification—Identify the project director and staff. Specify by title or name the percentage of time allocated to the project, the individual annual salaries and the cost to the project (both Federal and non-Federal) of the organization's staff who will be working on the project.

Line 6b

Fringe Benefits—Enter the total costs of fringe benefits unless treated as part of an approved indirect cost rate which is entered on Line 6j.

Justification—Enter the total costs of fringe benefits, unless treated as part of an approved indirect cost rate. Provide a breakdown of amounts and percentages that comprise fringe benefit costs.

Line 6c

Travel—Enter total cost of all travel by employees of the project. Do not enter costs for consultant's travel.

Justification—Include the name(s) of traveler(s), total number of trips, destinations, length of stay, mileage rate, transportation costs and subsistence allowances. Traveler must be a person listed under the personnel line or employee being paid under non-Federal share. (Note: Local transportation and consultant travel costs are entered on Line 6h.)

Line 6d

Equipment—Enter the total costs of all equipment to be acquired by the project. Equipment means an article of nonexpendable, tangible personal property having a useful life of more than one year and an acquisition cost which equals or exceeds the lesser of (a) the capitalization level established by the organization for financial statement purposes, or (b) $5,000. [Note: If an applicant's current rate agreement was based on another definition for equipment, such as “tangible personal property $500 or more”, the applicant shall use the definition used by the cognizant agency in determining the rate(s). However, consistent with the applicant's equipment policy, lower limits may be set.]

Justification—Equipment to be purchased with Federal funds must be required to conduct the project, and the applicant organization or its subgrantees must not already have the equipment or a reasonable facsimile available to the project.

Line 6e

Supplies—Enter the total costs of all tangible personal property other than that included on line 6d.

Justification—Provide a general description of what is being purchased such as type of supplies (office, classroom, medical, etc.). Include equipment costing less than $5,000 per item.

Line 6f

Contractual—Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use Part 92 procedures, must justify any anticipated procurement action that is expected to be awarded without competition and exceed the simplified acquisition threshold fixed at 41 USC 403(11) currently set at $100,000. Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Line 6g

Construction—Not applicable.

Line 6h

Other—Enter the total of all other costs. Such costs, where applicable, may include, but are not limited to, insurance, food, medical and dental costs (non-contractual); fees and travel paid directly to individual consultants; local transportation (all travel which does not require per diem is considered local travel); space and equipment rentals; printing and publication; computer use training costs including tuition and stipends; training service costs including wage payments to individuals and supportive service payments; and staff development costs.

Line 6j

Indirect Charges—Enter the total amount of indirect costs. This line should be used only when the applicant currently has an indirect cost rate approved by DHHS or other Federal agencies.

If the applicant organization is in the process of initially developing or renegotiating a rate, it should, immediately upon notification that an award will be made, develop a tentative indirect cost rate proposal based on its most recently completed fiscal year in accordance with the principles set forth in the pertinent DHHS Guide for Establishing Indirect Cost Rates and submit it to the appropriate DHHS Regional Office. It should be noted that when an indirect cost rate is requested, those costs included in the indirect cost pool cannot also be budgeted or charged as direct costs to the grant. Indirect costs consistent with approved indirect cost rate agreements are allowable. Also, if the applicant is requesting a rate which is less than what is allowed under the program, the authorized representative of the applicant organization must submit a signed acknowledgement that the applicant is accepting a lower rate than allowed.

Line 6k

Totals—Enter the total amount of Lines 6i and 6j.

Line 7

Program Income—Enter the estimated amount of income, if any, expected to be generated from this project. Separately show expected program income generated from OCS support and income generated from other mobilized funds. Do not add or subtract this amount from the budget total. Show the nature and source of income in the program narrative statement.

Justification—Describe the nature, source and anticipated use of program income in the Program Narrative Statement.

Section C—Non-Federal Resources

This section is to record the amounts of non-Federal resources that will be used to support the project. Non-Federal resources mean other than OCS funds for which the applicant has received a commitment. Provide a brief explanation, on a separate sheet, showing the type of contribution, broken out by Object Class Category, (see SF-424A, Section B.6) and whether it is cash or third party in-kind. The firm commitment of these required funds must be documented and submitted with the application in order to be given credit in the criterion.

Except in unusual situations, this documentation must be in the form of letters of commitment or letters of intent from the organization(s)/individuals from which funds will be received.

Line 8

Column (a)—Enter the project title.

Column (b)—Enter the amount of cash or donations to be made by the applicant.

Column (c)—Enter the State contribution.

Column (d)—Enter the amount of cash and third party in-kind contributions to be made from all other sources.

Column (e)—Enter the total of columns (b), (c), and (d).

Lines 9, 10 and 11

Leave Blank

Line 12

Carry the total of each column of Line 8, (b) through (e). The amount in Column (e) should be equal to the amount on Section A, Line 5, Column (f).

Justification—Describe third party in-kind contributions, if included.

Section D—Forecasted Cash Needs

Line 13

Federal—Enter the amount of Federal (OCS) cash needed for this grant, by quarter, during the 12-month budget period.

Line 14

Non-Federal—Enter the amount of cash from all other sources needed by quarter during the first year.

Line 15

Totals—Enter the total of Lines 13 and 14.

Section F—Other Budget Information

Line 21

Direct Charges—Include narrative justification required under Section B for each object class category for the total project period.

Line 22

Indirect Charges—Enter the type of DHHS or other Federal agency approved indirect cost rate (provisional, predetermined, final or fixed) that will be in effect during the funding period, the estimated amount of the base to which the rate is applied and the total indirect expense. Also, enter the date the rate was approved, where applicable. Attach a copy of the approved rate agreement.

Line 23

Provide any other explanations and continuation sheets required or deemed necessary to justify or explain the budget information.

3. SF-424B—Assurances Non-Construction Programs (Attachment B-3)

All applicants must sign and return the “Assurances” with the application.

4. Project Narrative

Each narrative should include the following major sections:

a. Analysis of Need

b. Project Design (Adequacy of Work Program)

c. Significant and Beneficial Impact

d. Coordination/Services Integration

e. Organizational Experience in Program Area and Staff Responsibilities

f. Adequacy of Budget

The project narrative must address the specific purposes mentioned in Part A of this Program Announcement. The narrative should provide information on how the application meets the evaluation criteria in Part D of this Program Announcement.

Part F—Application Procedures

1. Availability of Forms

Applications for awards under this OCS program must be submitted on Standard Forms (SF) 424, 424A, and 424B. Part E and the Attachments to this Program Announcement contain all the instructions and forms required for submittal of applications. The forms may be reproduced for use in submitting applications.

A copy of this Program Announcement is available on the Internet through the OCS web site at the following web address: www.acf.dhhs.gov/programs/ocs/kits1.htm.

This Program Announcement also may be obtained by telephoning the office listed in the section entitled For Further Information Contact at the beginning of this Announcement.

The information requested under this Program Announcement is covered under the following OMB information collection clearances: SF-424 (No. 0348-0043), SF-424A (No. 0348-0044), SF-424B (No. 0348-0040), and other requirements for OCS applications (No. 0970-0062, expiration date October 31, 2001).

2. Intergovernmental Review

This program is covered under Executive Order 12372, “Intergovernmental Review of Federal Programs,” and 45 CFR Part 100, “Intergovernmental Review of Department of Health and Human Services Program and Activities.” Under the Order, States may design their own processes for reviewing and commenting on proposed Federal assistance under covered programs.

All States and Territories except Alabama, Alaska, Arizona, Colorado, Connecticut, Hawaii, Idaho, Indiana, Kansas, Louisiana, Massachusetts, Minnesota, Montana, Nebraska, New Jersey, New York, Ohio, Oklahoma, Oregon, Pennsylvania, South Dakota, Tennessee, Vermont, Virginia, Washington, Wyoming, American Samoa and Palau have elected to participate in the Executive Order process and have established Single Points of Contact (SPOCs). Applicants from these twenty-eight jurisdictions need take no action regarding E.O. 12372. Applicants for projects to be administered by Federally-recognized Indian Tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or indicate “not applicable” if no submittal is required) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger the “accommodate or explain” rule.

When comments are submitted directly to ACF, they should be addressed to: Department of Health and Human Services, Administration for Children and Families, OCSE Office of Grants Management, 370 L'Enfant Promenade, S.W., 4th floor East, Washington, D.C. 20447.

A list of the Single Points of Contact for each State and Territory is included as Attachment G of this Announcement.

3. Application Consideration

Applications that meet the screening requirements in Section 4 below will be reviewed competitively. Such applications will be referred to reviewers for a numerical score and explanatory comments based solely on responsiveness to program guidelines and evaluation criteria published in this Announcement. Applications will be reviewed by persons outside of the OCS unit which would be directly responsible for programmatic management of the grant. The results of these reviews will assist the Director and OCS program staff in considering competing applications. Reviewers' scores will weigh heavily in funding decisions but will not be the only factors considered. Applications will generally be considered in order of the average scores assigned by reviewers. However, highly ranked applications are not guaranteed funding since the Director may also consider other factors deemed relevant including, but not limited to, the timely and proper completion of projects funded with OCS funds granted in the last five (5) years; comments of reviewers and government officials; staff evaluation and input; geographic distribution; previous program performance of applicant; compliance with grant terms under previous DHHS grants; audit reports; investigative reports; and applicant's progress in resolving any final audit disallowances on OCS or other Federal agency grants. The OCS reserves the right to discuss applications with other Federal or non-Federal funding sources to ascertain the applicant's performance record.

4. Criteria for Screening Applications

a. Initial Screening—All applications that meet the application deadline will be screened to determine completeness and conformity to the requirements of this Announcement. Only those applications meeting the below listed requirements will be reviewed and evaluated competitively. Others will be returned to the applicants with a notation that they were unacceptable.

(1) The application must contain a completed and signed Standard Form SF-424.

(2) The SF-424 must be signed by an official of the organization applying for the grant who has authority to obligate the organization legally.

b. Pre-Rating Review—Applications which pass the initial screening will be forwarded to reviewers for analytical comment and scoring based on the criteria detailed in the section below and the specific requirements contained in Part A of this Announcement. Prior to the programmatic review, these reviewers and/or OCS staff will verify that the applications comply with this Program Announcement in the following areas:

(1) Eligibility—Applicant meets the eligibility requirements found in Part B.

(2) Number of Projects—The application contains only one project.

(3) Target Populations—The application clearly targets the specific outcomes and benefits of the project to low-income participants and beneficiaries as defined in the DHHS Poverty Income Guidelines (Attachment A).

(4) Grant Amount—The amount of funds requested does not exceed $50,000 (except for nationwide programs).

(5) Program Focus—The application addresses the purposes described in Part A of this Announcement.

c. Evaluation Criteria—Applications that pass the initial screening and pre-rating review will be assessed and scored by reviewers. Each reviewer will give a numerical score for each application reviewed. These numerical scores will be supported by explanatory statements on a formal rating form describing major strengths and major weaknesses under each applicable criterion published in this Announcement.

Part G—Contents of Application Package and Receipt Process

1. Contents of Application

Each application submission must include a signed original and four additional copies of the application. Each copy of the application MUST contain, in the order listed, each of the following:

a. Table of Contents with page numbers noted for each major section and subsection of the application, including the appendices. Each page in the application, including those in all appendices, must be numbered consecutively.

b. A Project Abstract which is a succinct description of the project in 200 words or less. The abstract should be on a separate page and should show (in the upper left-hand corner) the applicant's legal name and address, and the name and telephone number of the contact person for project information.

c. The SF-424 (Application for Federal Assistance). (Attachment B-1) should be completed in accordance with instructions provided with the form, as well as OCS specific instructions set forth in Part E of this Announcement. The SF-424 must contain an original signature of the certifying representative of the applicant organization. Applicants must also be aware that the applicant's legal name (Item 5) MUST match the Employer Identification Number (Item 6).

d. SF-424A (Budget Information—Non-Construction Programs) (Attachment B-2) must be completed.

e. SF-424B (Assurances—Non-Construction Programs) (Attachment B-3) must be filed by applicants requesting financial assistance for a non-construction project. Applicants must sign and return the SF-424B with their applications.

f. Certification Regarding Lobbying (Attachment C-1). Applicants must provide a certification concerning lobbying. Prior to receiving an award in excess of $100,000, applicants shall furnish an executed copy of the lobbying certification. Applicants must sign and return the certification with their applications.

g. Disclosure of Lobbying Activities (SF-LLL). Applicants must fill-in, sign and date form found at Attachment C-2. (This form is required only if lobbying has actually taken place or is expected to take place in trying to obtain the grant for which the applicant is applying.)

h. Project Narrative (See Part E, section 4)

i. Certification Regarding Drug-Free Workplace Requirements (Attachment D). Applicants must make the appropriate certification of their compliance with the Drug-Free Workplace Act of 1988. By signing and submitting the applications, applicants are providing the certification and need not mail back the certification with the applications.

j. Certification Regarding Debarment, Suspension, Etc. (Attachment E). Applicants must make the appropriate certification that they are not presently debarred, suspended or otherwise ineligible for award. By signing and submitting the applications, applicants are providing the certification and need not mail back the certification with the applications.

k. Certification Regarding Environmental Tobacco Smoke (Attachment F). Applicants must make the appropriate certification of their compliance with the Pro-Children Act of 1944. By signing and submitting the applications, applicants are providing the certification and need not mail back the certification with the applications.

The total number of pages for the narrative portion of the application package must not exceed 30 pages in its entirety. Applications must be uniform in composition since OCS may find it necessary to duplicate them for review purposes. Therefore, applications must be submitted on 8½ x 11-inch paper only. They must not include colored, oversized or folded materials, organizational brochures, or other promotional materials, slides, films, clips, etc. Such materials will be discarded if included.

Applications should be two-holed punched at the top center and fastened separately with a compressor slide paper fastener or a binder clip.

While applications must be comprehensive, OCS encourages conciseness and brevity in the presentation of materials and cautions the applicant to avoid unnecessary duplication of information.

2. Acknowledgement of Receipt

An acknowledgement will be mailed to all applicants with an identification number which will be noted on the acknowledgement. This number must be referred to in all subsequent communications with OCS concerning the application. If an acknowledgement is not received within three weeks after the application deadline, applicants must notify ACF by telephone (202) 260-6662. Applicant should also submit a mailing label for the acknowledgement. (Note: To facilitate receipt of this acknowledgement from ACF, applicant should include a cover letter with the application containing an E-mail address and facsimile (FAX) number if these items are available to applicant.)

Part H—Post Award Information and Reporting Requirements

Following approval of the applications selected for funding, notice of project approval and authority to draw down project funds will be made in writing. The official award document is the Financial Assistance Award which provides the amount of Federal funds approved for use in the project, the budget period for which support is provided, and the terms and conditions of the award.

In addition to the General Conditions and Special Conditions (where the latter are warranted) that will be applicable to grants, grantees will be subject to the provisions of 45 CFR Parts 74 (non-governmental) and 92 (governmental) along with Circulars 122 (non-governmental) and 87 (governmental).

Grantees will be required to submit semi-annual progress and financial reports (SF-269) as well as a final progress and financial report.

Grantees are subject to the audit requirements in 45 CFR Parts 74 and 92.

Section 319 of Public Law 101-121, signed into law on October 23, 1989, imposes new prohibitions and requirements for disclosure and certification related to lobbying when applicant has engaged in lobbying activities or is expected to lobby in trying to obtain the grant. It provides limited exemptions for Indian tribes and tribal organizations. Current and prospective recipients (and their subtier contractors and/or grantees) are prohibited from using appropriated funds for lobbying Congress or any Federal agency in connection with the award of a contract, grant, cooperative agreement or loan. In addition, for each award action in excess of $100,000 (or $150,000 for loans) the law requires recipients and their subtier contractors and/or subgrantees (1) to certify that they have neither used nor will use any appropriated funds for payment to lobbyists, (2) to submit a declaration setting forth whether payments to lobbyists have been or will be made out of non-appropriated funds and, if so, the name, address, payment details, and purpose of any agreements with such lobbyists whom recipients or their subtier contractors or subgrantees will pay with the non-appropriated funds, and (3) to file quarterly updates about the use of lobbyists if any event occurs that materially affects the accuracy of the information submitted by way of declaration and certification. The law establishes civil penalties for noncompliance and is effective with respect to contracts, grants, cooperative agreements and loans entered into or made on or after December 23, 1989. See Attachments C-1 and C-2 for certification and disclosure forms to be submitted with the applications for this program.

Attachment H indicates the regulations that apply to all applicants/grantees under the FY 2001 Community Food and Nutrition Program.

Dated: March 20, 2001.
Robert Mott,
Acting Director, Office of Community Services.

Community Food and Nutrition Program

List of Attachments

Attachment A—2000 Poverty Guidelines For The 48 Contiguous States And The District Of Columbia, Alaska, and Hawaii

Attachment B-1—Standard Form 424, Application for Federal Assistance

Attachment B-2—Standard Form 424A, Budget Information—Non-Construction Programs

Attachment B-3—Standard Form 424B, Assurances—Non-Construction Programs

Attachment C-1—Certification Regarding Lobbying

Attachment C-2—Standard Form LLL, Disclosure of Lobbying Activities

Attachment D—Certification Regarding Drug-Free Workplace Requirements

Attachment E—Certification Regarding Debarment, Suspension, And Other Responsibility Matters (Primary and Lower Tier Covered Transactions)

Attachment F—Certification Regarding Environmental Tobacco Smoke

Attachment G—State Single Point of Contact Listing Maintained By OMB

Attachment H—DHHS Regulations Applying To All Applicants/Grantees Under The Community Food and Nutrition Program

Attachment I—Applicant's Checklist

Attachment A

2001 Poverty Guidelines for the 48 Contiguous States and the District of Columbia
Size of family unit | Poverty guideline
1 | $8,590
2 | 11,610
3 | 14,630
4 | 17,650
5 | 20,670
6 | 23,690
7 | 26,710
8 | 29,730
For family units with more than 8 members, add $3,020 for each additional member.
(The same increment applies to smaller family sizes also, as can be seen in the figures above).

2001 Poverty Guidelines for Alaska
Size of family unit | Poverty guideline
1 | $10,730
2 | 14,510
3 | 18,290
4 | 22,070
5 | 25,850
6 | 29,630
7 | 33,410
8 | 37,190
For family units with more than 8 members, add $3,780 for each additional member.
(The same increment applies to smaller family sizes also, as can be seen in the figures above).

2001 Poverty Guidelines for Hawaii
Size of family unit | Poverty guidelines
1 | $9,890
2 | 13,360
3 | 16,830
4 | 20,300
5 | 23,770
6 | 27,240
7 | 30,710
8 | 34,180
For family units with more than 8 members, add $3,470 for each additional member.
(The same increment applies to smaller family sizes also, as can be seen in the figures above).

BILLING CODE 4184-01-P

BILLING CODE 4184-01-C

INSTRUCTIONS FOR THE SF-424

Public reporting burden for this collection of information is estimated to average 45 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0043), Washington, DC 20503.

PLEASE DO NOT RETURN YOUR COMPLETED FORM TO THE OFFICE OF MANAGEMENT AND BUDGET. SEND IT TO THE ADDRESS PROVIDED BY THE SPONSORING AGENCY.

This is a standard form used by applicants as a required facesheet for preapplications and applications submitted for Federal assistance. It will be used by Federal agencies to obtain applicant certification that States which have established a review and comment procedure in response to Executive Order 12372 and have selected the program to be included in their process, have been given an opportunity to review the applicant's submission.

Item/Entry

1. Self-explanatory.

2. Date application submitted to Federal agency (or State if applicable) and applicant's control number (if applicable).

3. State use only (if applicable).

4. If this application is to continue or revise an existing award, enter present Federal identifier number. If for a new project, leave blank.

5. Legal name of applicant, name of primary organizational unit which will undertake the assistance activity, complete address of the applicant, and name and telephone number of the person to contact on matters related to this application.

6. Enter Employer Identification Number (EIN) as assigned by the Internal Revenue Service.

7. Enter the appropriate letter in the space provided.

8. Check appropriate box and enter appropriate letter(s) in the space(s) provided:

—“New” means a new assistance award.

—“Continuation” means an extension for an additional funding/budget period for a project with a projected completion date.

—“Revision” means any change in the Federal Government's financial obligation or contingent liability from an existing obligation.

9. Name of Federal agency from which assistance is being requested with this application.

10. Use the Catalog of Federal Domestic Assistance number and title of the program under which assistance is requested.

11. Enter a brief descriptive title of the project. If more than one program is involved, you should append an explanation on a separate sheet. If appropriate (e.g., construction or real property projects), attach a map showing project location. For preapplications, use a separate sheet to provide a summary description of this project.

12. List only the largest political entities affected (e.g., State, counties, cities).

13. Self-explanatory.

14. List the applicant's Congressional District and any district(s) affected by the program or project.

15. Amount requested or to be contributed during the first funding/budget period by each contributor. Value of inkind contributions should be included on appropriate lines as applicable. If the action will result in a dollar change to an existing award, indicate only the amount of the change. For decreases, enclose the amounts in parentheses. If both basic and supplemental amounts are included, show breakdown on an attached sheet. For multiple program funding, use totals and show breakdown using same categories as item 15.

16. Applicants should contact the State Single Point of Contact (SPOC) for Federal Executive Order 12372 to determine whether the application is subject to the State intergovernmental review process.

17. This question applies to the applicant organization, not the person who signs as the authorized representative. Categories of debt include delinquent audit disallowances, loans and taxes.

18. To be signed by the authorized representative of the applicant. A copy of the governing body's authorization for you to sign this application as official representative must be on file in the applicant's office (Certain Federal agencies may require that this authorization be submitted as part of the application.)

BILLING CODE 4184-01-P

BILLING CODE 4184-01-C

INSTRUCTIONS FOR THE SF-424A

Public reporting burden for this collection of information is estimated to average 180 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0044), Washington, DC 20503.

PLEASE DO NOT RETURN YOUR COMPLETED FORM TO THE OFFICE OF MANAGEMENT AND BUDGET. SEND IT TO THE ADDRESS PROVIDED BY THE SPONSORING AGENCY.

General Instructions

This form is designed so that application can be made for funds from one or more grant programs. In preparing the budget, adhere to any existing Federal grantor agency guidelines which prescribe how and whether budgeted amounts should be separately shown for different functions or activities within the program. For some programs, grantor agencies may require budgets to be separately shown by function or activity. For other programs, grantor agencies may require a breakdown by function or activity. Sections A, B, C, and D should include budget estimates for the whole project except when applying for assistance which requires Federal authorization in annual or other funding period increments. In the latter case, Sections A, B, C, and D should provide the budget for the first budget period (usually a year) and Section E should present the need for Federal assistance in the subsequent budget periods. All applications should contain a breakdown by the object class categories shown in Lines a-k of Section B.

Section A. Budget Summary Lines 1-4 Columns (a) and (b)

For applications pertaining to a single Federal grant program (Federal Domestic Assistance Catalog number) and not requiring a functional or activity breakdown, enter on Line 1 under column (a) the Catalog program title and the Catalog number in Column (b).

For applications pertaining to a single program requiring budget amounts by multiple functions or activities, enter the name of each activity or function on each line in Column (a), and enter the Catalog number in Column (b). For applications pertaining to multiple programs where none of the programs require a breakdown by function or activity, enter the Catalog program title on each line in Column (a) and the respective Catalog number on each line in Column (b).

For applications pertaining to multiple programs where one or more programs require a breakdown by function or activity, prepare a separate sheet for each program requiring the breakdown. Additional sheets should be used when one form does not provide adequate space for all breakdown of data required. However, when more than one sheet is used, the first page should provide the summary totals by programs.

Lines 1-4, Columns (c) through (g)

For new applications, leave Column (c) and (d) blank. For each line entry in Columns (a) and (b), enter in Columns (e), (f), and (g) the appropriate amounts of funds needed to support the project for the first funding period (usually a year).

For continuing grant program applications, submit these forms before the end of each funding period as required by the grantor agency. Enter in Columns (c) and (d) the estimated amounts of funds which will remain unobligated at the end of the grant funding period only if the Federal grantor agency instructions provide for this. Otherwise, leave these columns blank. Enter in columns (e) and (f) the amounts of funds needed for the upcoming period. The amount(s) in Column (g) should be the sum of amounts in Columns (e) and (f).

For supplemental grants and changes to existing grants, do not use Columns (c) and (d). Enter in Column (e) the amount of the increase or decrease of Federal funds and enter in Column (f) the amount of the increase or decrease of non-Federal funds. In Column (g) enter the new total budgeted amount (Federal and non-Federal) which includes the total previous authorized budgeted amounts plus or minus, as appropriate, the amounts shown in Columns (e) and (f). The amount(s) in Column (g) should not equal the sum of amounts in Columns (e) and (f).

Line 5

Show the totals for all columns used.

Section B. Budget Categories

In the column headings (1) through (4), enter the titles of the same programs, functions, and activities shown on Lines 1-4, Column (a), Section A. When additional sheets are prepared for Section A, provide similar column headings on each sheet. For each program, function or activity, fill in the total requirements for funds (both Federal and non-Federal by object class categories.

Line 6a-i

Show the totals of Lines 6a to 6h in each column.

Line 6j

Show the amount of indirect cost.

Line 6k

Enter the total of amounts on Lines 6i and 6j. For all applications or new grants and continuation grants the total amount in column (5), Line 6k, should be the same as the total amount shown in Section A, Column (g), Line 5. For supplemental grants and changes to grants, the total amount of the increase or decrease as shown in Columns (1)-(4), Line 6k should be the same as the sum of the amounts in Section A, Columns (e) and (f) on Line 5.

Line 7

Enter the estimated amount of income, if any, expected to be generated from this project. Do not add or subtract this amount from the total project amount. Show under the program narrative statement the nature and source of income. The estimated amount of program income may be considered by the Federal grantor agency in determining the total amount of the grant.

Section C. Non-Federal Resources

Lines 8-11

Enter amounts of non-Federal resources that will be used on the grant. If in-kind contributions are included, provide a brief explanation on a separate sheet.

Column (a)—Enter the program titles identical to Column (a), Section A. A breakdown by function or activity is not necessary.

Column (b)—Enter the contribution to be made by the applicant.

Column (c)—Enter the amount of the State's cash and in-kind contribution if the applicant is not a State or State agency. Applicants which are a State or State agencies should leave this column blank.

Column (d)—Enter the amount of cash and in-kind contributions to be made from all other sources.

Column (e)—Enter totals of Columns (b), (c), and (d).

Line 12

Enter the total for each of Columns (b)-(e). The amount in Column (e) should be equal to the amount on Line 5, Column (f), Section A.

Section D. Forecasted Cash Needs

Line 13

Enter the amount of cash needed by quarter from the grantor agency during the first year.

Line 14

Enter the amount of cash from all other sources needed by quarter during the first year.

Line 15

Enter the totals of amounts on Lines 13 and 14.

Section E. Budget Estimates of Federal Funds Needed for Balance of the Project

Lines 16-19

Enter in Column (a) the same grant program titles shown in Column (a), Section A. A breakdown by function or activity is not necessary. For new applications and continuation grant applications, enter in the proper columns amounts of Federal funds which will be needed to complete the program or project over the succeeding funding periods (usually in years). This section need not be completed for revisions (amendments, changes, or supplements) to funds for the current year of existing grants.

If more than four lines are needed to list the program titles, submit additional schedules as necessary.

Line 20

Enter the total for each of the Columns (b)-(e). When additional schedules are prepared for this Section, annotate accordingly and show the overall totals on this line.

Section F. Other Budget Information

Line 21

Use this space to explain amounts for individual direct object class cost categories that may appear to be out of the ordinary or to explain the details as required by the Federal grantor agency.

Line 22

Enter the type of indirect rate (provisional, predetermined, final or fixed) that will be in effect during the funding period, the estimated amount of the base to which the rate is applied, and the total indirect expense.

Line 23

Provide any other explanations or comments deemed necessary.

Attachment B-3

ASSURANCES—NON-CONSTRUCTION PROGRAMS

Public reporting burden for this collection of information is estimated to average 15 minutes per response, including time for reviewing instructions, searching existing data sources, gathering and maintaining the date needed, and completing and reviewing the collection of information. Send comments regarding the burden estimate or any other aspect of this collection of information, including suggestions for reducing this burden, to the Office of Management and Budget, Paperwork Reduction Project (0348-0040), Washington, DC 20503.

PLEASE DO NOT RETURN YOUR COMPLETED FORM TO THE OFFICE OF MANAGEMENT AND BUDGET. SEND IT TO THE ADDRESS PROVIDED BY THE SPONSORING AGENCY.

Note: Certain of these assurances may not be applicable to your project or program. If you have questions, please contact the awarding agency. Further, certain Federal awarding agencies may require applicants to certify to additional assurances. If such is the case, you will be notified.

As the duly authorized representative of the applicant, I certify that the applicant:

1. Has the legal authority to apply for Federal assistance and the institutional, managerial and financial capability (including funds sufficient to pay the non-Federal share of project cost) to ensure proper planning, management and completion of the project describe in this application.

2. Will give the awarding agency, the Comptroller General of the United States and, if appropriate, the State, through any authorized representative, access to and the right to examine all records, books, papers, or documents related to the award; and will establish a proper accounting system in accordance with generally accepted accounting standards or agency directives.

3. Will establish safeguards to prohibit employees from using their positions for a purpose that constitutes or presents the appearance of personal or organizational conflict of interest, or personal gain.

4. Will initiate and complete the work within the applicable time frame after receipt of approval of the awarding agency.

5. Will comply with the Intergovernmental Personnel Act of 1970 (42 U.S.C. §§ 4728-4763) relating to prescribed standards for merit systems for programs funded under one of the 19 statutes or regulations specified in Appendix A of OPM's Standards for a Merit System of Personnel Administration (5 C.F.R. 900, Subpart F).

6. Will comply with all Federal statues relating to nondiscrimination. These include but are not limited to: (a) Title VI of the Civil Rights Act of 1964 (P.L. 88-352) which prohibits discrimination on the basis of race, color or national origin: (b) Title IX of the Education Amendments of 1972, as amended (20 U.S.C. §§ 1681-1683, and 1685-1686), which prohibits discrimination on the basis of sex; (c) Section 504 of the Rehabilitation Act of 1973, as amended (29 U.S.C. § 794), which prohibits discrimination on the basis of handicaps; (d) the Age Discrimination Act of 1975, as amended (42 U.S.C. §§ 6101-6107), which prohibits discrimination on the basis of age; (e) the Drug Abuse Office and Treatment Act of 1972 (P.L. 92-255), as amended, relating to nondiscrimination on the basis of drug abuse; (f) the Comprehensive Alcohol Abuse and Alcoholism Prevention, Treatment and Rehabilitation Act of 1970 (P.L. 91-616), as amended, relating to nondiscrimination on the basis of alcohol abuse or alcoholism; (g) §§ 523 and 527 of the Public Health Service Act of 1912 (42 U.S.C. §§ 290 dd-3 and 290 ee 3), as amended, relating to confidentiality of alcohol and drug abuse patient records; (h) Title VIII of the Civil Rights Act of 1968 (42 U.S.C. §§ 3601 et seq.), as amended, relating to nondiscrimination in the sale, rental or financing of housing; (i) any other nondiscrimination provisions in the specific statute(s) under which application for Federal assistance is being made; and, (j) the requirements of any other nondiscrimination statute(s) which may apply to the application.

7. Will comply, or has already complied, with the requirements of Titles II and III of the Uniform Relocation Assistance and Real Property Acquisition Policies Act of 1970 (P.L. 91-646) which provide for fair and equitable treatment of persons displaced or whose property is acquired as a result of Federal or federally-assisted programs. These requirements apply to all interests in real property acquired for project purposes regardless of Federal participation in purchases.

8. Will comply, as applicable, with provisions of the Hatch Act (5 U.S.C. §§ 1501-1508 and 7324-7328) which limit the political activities of employees whose principal employment activities are funded in whole or in part with Federal funds.

9. Will comply, as applicable, with the provisions of the Davis-Bacon Act (40 U.S.C. §§ 276a to 276a-7), the Copeland Act (40 U.S.C. § 276c and 18 U.S.C. § 874), and the Contract Work Hours and Safety Standards Act (40 U.S.C. §§ 327-333), regarding labor standards for federally-assisted construction subagreements.

10. Will comply, if applicable, with flood insurance purchase requirements of Section 102(a) of the Flood Disaster Protection Act of 1973 (P.L. 93-234) which requires recipients in a special flood hazard area to participate in the program and to purchase flood insurance if the total cost of insurable construction and acquisition is $10,000 or more.

11. Will comply with environmental standards which may be prescribed pursuant to the following: (a) institution of environmental quality control measures under the National Environmental Policy Act of 1969 (P.L. 91-190) and Executive Order (EO) 11514; (b) notification of violating facilities pursuant to EO 11738; (c) protection of wetlands pursuant to EO 11990; (d) evaluation of flood hazards in floodplains in accordance with EO 11988; (e) assurance of project consistency with the approved State management program developed under the Coastal Zone Management Act of 1972 (16 U.S.C. §§ 1451 et seq.); (f) conformity of Federal actions to State (Clean Air) Implementation Plans under Section 176(c) of the Clean Air Act of 1955, as amended (42 U.S.C. §§ 7401 et seq.); (g) protection of underground sources of drinking water under the Safe Drinking Water Act of 1974, as amended (P.L. 93-523); and, (h) protection of endangered species under the Endangered Species Act of 1973, as amended (P.L. 93-205).

12. Will comply with the Wild and Scenic Rivers Act of 1968 (16 U.S.C. §§ 1271 et seq.) related to protecting components or potential components of the national wild and scenic rivers system.

13. Will assist the awarding agency in assuring compliance with Section 106 of the National Historic Preservation Act of 1996, as amended (16 U.S.C. § 470), EO 11593 (identification and protection of historic properties), and the Archaeological and Historic Preservation Act of 1974 (16 U.S.C. §§ 469a-1 et seq.).

14. Will comply with P.L. 93-348 regarding the protection of human subjects involved in research, development, and related activities supported by this award of assistance.

15. Will comply with the Laboratory Animal Welfare Act of 1966 (P.L. 89-544, as amended, 7 U.S.C. §§ 2131 et seq.) pertaining to the care, handling, and treatment of warm blooded animals held for research, teaching, or other activities supported by this award of assistance.

16. Will comply with the Lead-Based Paint Poisoning Prevention Act (42 U.S.C. §§ 4801 et seq.) which prohibits the use of lead-based paint in construction or rehabilitation of residence structures.

17. Will cause to be performed the required financial and compliance audits in accordance with the Single Audit Act Amendments of 1996 and OMB Circular No. A-133, “Audits of States, Local Governments, and Non-Profit Organizations.”

18. Will comply with all applicable requirements of all other Federal laws, executive orders, regulations, and policies governing this program.

Signature of Authorized Certifying Official

Title

Applicant Organization

Date Submitted

Attachment C-1

Developing ACF Program Announcements

Certification Regarding Lobbying

Certification for Contracts, Grants, Loans, and Cooperative Agreements

The undersigned certifies, to the best of his or her knowledge and belief, that:

(1) No Federal appropriated funds have been pair or will be paid, by or on behalf of the undersigned, to any person for influencing or attempting to influence an officer or employee of an agency, a Member of Congress, an officer or employee of Congress, or an employee of a Member of Congress in connection with the awarding of any Federal contract, the making of any Federal grant, the making of any Federal loan, the entering into of any cooperative agreement, and the extension, continuation, renewal, amendment, or modification of any Federal contract, grant, loan, or cooperative agreement.

(2) If any funds other than Federal appropriated funds have been paid or will be paid to any person for influencing or attempting to influence an officer or employee of any agency, a Member of Congress, an officer or employee of Congress, or an employee of a Member of Congress in connection with this Federal contract, grant, loan, or cooperative agreement, the undersigned shall complete and submit Standard Form-LLL. “Disclosure Form to Report Lobbying,” in accordance with its instructions.

(3) The undersigned shall require that the language of this certification be included in the award documents for all subawards at all tiers (including subcontracts, subgrants, and contracts under grants, loans, and cooperative agreements) and that all subrecipients shall certify and disclose accordingly. This certification is a material representation of fact upon which reliance was placed when this transaction was made or entered into. Submission of this certification is a prerequisite for making or entering into this transaction imposed by section 1352, title 31, U.S. Code. Any person who fails to file the required certification shall be subject to a civil penalty of not less than $10,000 and not more than $100,000 for each such failure.

Statement for Loan Guarantee and Loan Insurance

The undersigned states, to the best of his or her knowledge and belief, that:

If any funds have been paid or will be paid to any person for influencing or attempting to influence an officer or employee of any agency, a Member of Congress, an officer or employee of Congress, or an employee of a Member of Congress in connection with this commitment providing for the United States to insure or guarantee a loan, the undersigned shall complete and submit Standard Form-LLL. “Disclosure Form to Report Lobbying,” in accordance with its instructions. Submission of this statement is a prerequisite for making or entering into this transaction imposed by section 1352, title 31, U.S. Code. Any person who fails to file the required statement shall be subject to a civil penalty of not less than $10,000 and not more than $100,000 for each such failure.

Signature

Title

Organization

Date

BILLING CODE 4184-01-P

BILLING CODE 4184-01-C

INSTRUCTIONS FOR COMPLETION OF SF-LLL, DISCLOSURE OF LOBBYING ACTIVITIES

This disclosure form shall be completed by the reporting entity, whether subawardee or prime Federal recipient, at the initiation or receipt of a covered Federal action, or a material change to a previous filing, pursuant to title 32 U.S.C. section 1352. The filing of a form is required for each payment or agreement to make payments to any lobbying entity for influencing or attempting to influence an officer or employee of any agency, a Member of Congress, an officer or employee of Congress, or an employee of a Member of Congress in connection with a covered Federal action. Complete all items that apply for both the initial filing and material change report. Refer to the implementing guidance published by the Office of Management and Budget for additional information.

1. Identify the type of covered Federal action for which lobbying activity is and/or has been secured to influence the outcome of a covered Federal action.

2. Identify the status of the covered Federal action.

3. Identify the appropriate classification of this report. If this is a followup report caused by a material change to the information previously reported, enter the year and quarter in which the change occurred. Enter the date of the last previously submitted report by this reporting entity for this covered Federal action.

4. Enter the full name, address, city, State and zip code of the reporting entity. Include Congressional District, if known. Check the appropriate classification of the reporting entity that designates if it is, or expects to be, a prime or subaward recipient, identify the tier of the subawardee, e.g., the first subawardee of the prime is the 1st tier. Subawards include but are not limited to subcontracts, subgrants and contract awards under grants.

5. If the organization filing the report in item 4 checks ``Subawardee,'' then enter the full name, address, city, State and zip code of the prime Federal recipient. Include Congressional District, if known.

6. Enter the name of the Federal agency making the award or loan commitment. Includes at least one organizational level below agency name, if known. For example, Department of Transportation, United States Coast Guard.

7. Enter the Federal program name or description for the covered Federal action (item 1). If known, enter the full Catalog of Federal Domestic Assistance (CFDA) number for grants, cooperative agreements, loans, and loan commitments.

8. Enter the most appropriate Federal identifying number available for the Federal action identified in item 1 (e.g., Request for Proposal (RFP) number; Invitation for Bid (IFB number; grant announcement number; the contract, grant or loan award number; the application/proposal control number assigned by the Federal agency). Include prefixes, e.g. ``RFP-DE-90-001.''

9. For a covered Federal action where there has been an award or loan commitment by the Federal agency, enter the Federal amount of the award/loan commitment for the prime entity identified in item 4 or 5.

10. (a) Enter the full name, address, city. State and zip code of the lobbying registrant under the Lobbying Disclosure Act of 1995 engaged by the reporting entity identified in item 4 to influence the covered Federal action.

(b) Enter the full names of the individuals(s) performing services, and include full address if different from 10 (a). Enter Last Name, first Name, and Middle Initial (M).

11. The certifying official shall sign and date the form, print his/her name, title, and telephone number.

According to the Paperwork Reduction Act, as amended, no persons are required to respond to a collection of information unless it displays a valid OMB Control Number. The valid OMB control number for this information collection is OMB No. 0348-0046. Public reporting burden for this collection of information is estimated to average 10 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0046), Washington, DC 20503.

Attachment D

Developing ACF Program Announcements

CERTIFICATION REGARDING DRUG-FREE WORKPLACE REQUIREMENTS

This certification is required by the regulations implementing the Drug-Free Workplace Act of 1988; 45 CFR Part 76, Subpart F. Sections 76.630(c) and (d)(2) and 76.645(a)(1) and (b) provide that a Federal agency may designate a central receipt point for STATE-WIDE AND STATE AGENCY-WIDE certifications, and for notification of criminal drug convictions. For the Department of Health and Human Services, the central pint is: Division of Grants Management and Oversight. Office of Management and Acquisition, Department of Health and Human Services, Room 517-D, 200 Independence Avenue, SW, Washington, DC 20201.

Certification Regarding Drug-Free Workplace Requirements (Instructions for Certification)

1. By signing and/or submitting this application or grant agreement, the grantee is providing the certification set out below.

2. The certification set out below is a material representation of fact upon which reliance is placed when the agency awards the grant. If it is later determined that the grantee knowingly rendered a false certification, or otherwise violates the requirements of the Drug-Free Workplace Act, the agency, in addition to any other remedies available to the Federal Government, may take action authorized under the Drug-Free Workplace Act.

3. For grantees other than individuals. Alternate 1 applies.

4. For grantees who are individuals, Alternate II applies.

5. Workplaces under grants, for grantees other than individuals, need not be identified on the certification. If known, they may be identified in the grant application. If the grantee does not identify the workplaces at the time of application, or upon award, if there is no application, the grantee must keep the identity of the workplace(s) on file in its office and make the information available for Federal inspection. Failure to identify all known workplaces constitutes a violation of the grantee's drug-free workplace requirements.

6. Workplace identifications must include the actual address of buildings (or parts of buildings) or other sites where work under the grant takes place. Categorical descriptions may be used (e.g. all vehicles of a mass transit authority or State highway department while in operation, state employees in each local unemployment office, performers in concert halls or radio studios).

7. If the workplace identified to the agency changes during the performance of the grant or the grantee shall inform the agency of the change(s), if it previously identified the workplaces in question (see paragraph five).

8. Definitions of terms in the Nonprocurement Suspension and Debarment common rule and Drug-Free Workplace common rule apply to this certification. Grantees' attention is called, in particular, to the following definitions from these rules:

Controlled substance means a controlled substance in Schedules I through V of the Controlled Substances ACt (21 U.S.C. 812) and as further defined by regulation (21 CFR 1308.11 through 1308.15):

Conviction means a finding of guilt (including a pleas of nolo contendere) or imposition of sentence, or both, by any judicial body charged with the responsibility to determine violations of the Federal or State criminal drug statutes;

Criminal drug statute means a Federal or non-Federal criminal statute involving the manufacture, distribution, dispensing, use, or possession of any controlled substance;

Employee means the employee of a grantee directly engaged in the performance of work under a grant, including: (i) All direct charge employees; (ii) All indirect charge employees unless their impact or involvement is insignificant to the performance of the grant; and, (iii) Temporary personnel and consultants who are directly engaged in the performance of work under the grant and who are on the grantee's payroll. This definition does not include workers not on the payroll of the grantee (e.g., volunteers, even if used to meet a matching requirement; consultants or independent contractors not on the grantee's payroll; or employees of subrecipients or subcontractors in covered workplaces):

Certification Regarding Drug-Free Workplace Requirements

Alternate 1. (Grantees Other Than Individuals)

The grantee certifies that it will or will continue to provide a drug-free workplace by:

(a) Publishing a statement notifying employees that the unlawful manufacture, distribution, dispensing, possession, or use of a controlled substance is prohibited in the grantee's workplace and specifying the actions that will be taken against employees for violation of such prohibition;

(b) Establishing an ongoing drug-free awareness program to inform employees about—

(1) The dangers of drug abuse in the workplace;

(2) The grantee's policy of maintaining a drug-free workplace;

(3) Any available drug counseling, rehabilitation, and employee assistance programs; and

(4) The penalties that may be imposed upon employees for drug abuse violations occurring in the workplace;

(c) Making it a requirement that each employee to be engaged in the performance of the grant be given a copy of the statement required by paragraph (a);

(d) Notifying the employee in the statement required by paragraph (a) that, as a condition of employment under the grant, the employee will—

(1) Abide by the terms of the statement; and

(2) Notify the employer in writing of his or her conviction for a violation of a criminal drug statute occurring in the workplace no later than five calendar days after such conviction;

(e) Notifying the agency in writing, within ten calendar days after receiving notice under paragraph (d)(2) from an employee or otherwise receiving actual notice of such conviction. Employers of convicted employees must provide notice, including position title, to every grant officer or other designee on whose grant activity the convicted employee was working, unless the Federal agency has designated a central point for the receipt of such notices. Notice shall include the identification number(s) of each affected grant;

(f) Taking one of the following actions, within 30 calendar days of receiving notice under paragraph (d)(2), with respect to any employee who is so convicted—

(1) Taking appropriate personnel action against such an employee, up to and including termination, consistent with the requirements of the Rehabilitation Act of 1973, as amended; or

(2) Requiring such employee to participate satisfactorily in a drug abuse assistance or rehabilitation program approved for such purposes by a Federal, State, or local health, law enforcement, or other appropriate agency;

(g) Making a good faith effort to continue to maintain a drug-free workplace through implementation of paragraphs (a), (b), (c), (d), (e) and (f).

(B) The grantee may insert in the space provided below the site(s) for the performance of work done in connection with the specific grant:

Place of Performance (Street address, city, county, state, zip code)

Check □ if there are workplaces on file that are not identified here.

Alternate II. (Grantees Who are Individuals)

(a) The grantee certifies that, as a condition of the grant, he or she will not engage in the unlawful manufacture, distribution, dispensing, possession, or use of a controlled substance in conducting any activity with the grant;

(b) If convicted of a criminal drug offense resulting from a violation occurring during the conduct of any grant activity, he or she will report the conviction, in writing, within 10 calendar days of the conviction, to every grant officer or other designee, unless the Federal agency designates a central point for the receipt of such notices. When notice is made to such a central point it shall include the identification number(s) of each affected grant.

[55 FR 21690, 21702, May 25, 1990]

Attachment E

Developing ACF Program Announcements

CERTIFICATION REGARDING DEBARMENT, SUSPENSION AND OTHER RESPONSIBILITY MATTERS

Certification Regarding Debarment, Suspension, and Other Responsibility Matters—Primary Covered Transactions

Instructions for Certification

1. By signing and submitting this proposal, the prospective primary participant is providing the certification set out below.

2. The inability of a person to provide the certification required below will not necessarily result in denial of participation in this covered transaction. The prospective participant shall submit an explanation of why it cannot provide the certification set out below. The certification or explanation will be considered in connection with the department or agency's determination whether to enter into this transaction. However, failure of the prospective primary participant to furnish a certification or an explanation shall disqualify such person from participation in this transaction.

3. The certification in this clause is a material representation of fact upon which reliance was placed when the department or agency determined to enter into this transaction. If it is later determined that the prospective primary participant knowingly rendered an erroneous certification, in addition to other remedies available to the Federal Government, the department or agency may terminate this transaction for cause or default.

4. The prospective primary participant shall provide immediate written notice to the department or agency to which this proposal is submitted if at any time the prospective primary participant learns that its certification was erroneous when submitted or has become erroneous by reason of changed circumstances.

5. The terms covered transaction, debarred, suspended, ineligible, lower tier covered transaction, participant, person, primary covered transaction, principal, proposal, and voluntarily excluded, as used in this clause, have the meanings set out in the Definitions and Coverage sections of the rules implementing Executive Order 12549. You may contact the department or agency to which this proposal is being submitted for assistance in obtaining a copy of those regulations.

6. The prospective primary participant agrees by submitting this proposal that, should the proposed covered transaction be entered into, it shall not knowingly enter into any lower tier covered transaction with a person who is proposed for debarment under 48 CFR part 9, subpart 9.4, debarred, suspended, declared ineligible, or voluntarily excluded from participation in this covered transaction, unless authorized by the department or agency entering into this transaction.

7. The prospective primary participant further agrees by submitting this proposal that it will include the clause titled “Certification Regarding Debarment, Suspension, Ineligibility and Voluntary Exclusion-Lower Tier Covered Transaction,” provided by the department or agency entering into this covered transaction, without modification, in all lower tier covered transactions and in all solicitations for lower tier covered transactions.

8. A participant in a covered transaction may rely upon a certification of a prospective participant in a lower tier covered transaction that it is not proposed for debarment under 48 CFR part 9, subpart 9.4, debarred, suspended, ineligible, or voluntarily excluded from the covered transaction, unless it knows that the certification is erroneous. A participant may decide the method and frequency by which it determines the eligibility of its principals. Each participant may, but is not required to, check the List of Parties Excluded From Federal Procurement and Nonprocurement Programs.

9. Nothing contained in the foregoing shall be construed to require establishment of a system of records in order to render in good faith the certification required by this clause. The knowledge and information of a participant is not required to exceed that which is normally possessed by a prudent person in the ordinary course of business dealings.

10. Except for transactions authorized under paragraph 6 of these instructions, if a participant in a covered transaction knowingly enters into a lower tier covered transaction with a person who is proposed for debarment under 48 CFR part 9, subpart 9.4, suspended, debarred, ineligible, or voluntarily excluded from participation in this transaction, in addition to other remedies available to the Federal Government, the department or agency may terminate this transaction for cause or default.

Certification Regarding Debarment, Suspension, and Other Responsibility Matters—Primary Covered Transactions

(1) The prospective primary participant certifies to the best of its knowledge and belief, that it and its principals:

(a) Are not presently debarred, suspended, proposed for debarment, declared ineligible, or voluntarily excluded by any Federal department or agency;

(b) Have not within a three-year period preceding this proposal been convicted of or had a civil judgment rendered against them for commission of fraud or a criminal offense in connection with obtaining, attempting to obtain, or performing a public (Federal, State or local) transaction or contract under a public transaction; violation of Federal or State antitrust statutes or commission of embezzlement, theft, forgery, bribery, falsification or destruction of records, making false statements, or receiving stolen property;

(c) Are not presently indicted for or otherwise criminally or civilly charged by a governmental entity (Federal, State or local) with commission of any of the offenses enumerated in paragraph (1)(b) of this certification; and

(d) Have not within a three-year period preceding this application/proposal had one or more public transactions (Federal, State or local) terminated for cause or default.

(2) Where the prospective primary participant is unable to certify to any of the statements in this certification, such prospective participant shall attach an explanation to this proposal.

Certification Regarding Debarment, Suspension, Ineligibility and Voluntary Exclusion—Lower Tier Covered Transactions

Instructions for Certification

1. By signing and submitting this proposal, the prospective lower tier participant is providing the certification set out below.

2. The certification in this clause is a material representation of fact upon which reliance was placed when this transaction was entered into. If it is later determined that the prospective lower tier participant knowingly rendered an erroneous certification, in addition to other remedies available to the Federal Government the department or agency with which this transaction originated may pursue available remedies, including suspension/or debarment.

3. The prospective lower tier participant shall provide immediate written notice to the person to which this proposal is submitted if at any time the prospective lower tier participant learns that its certification was erroneous when submitted or had become erroneous by reason of changed circumstances.

4. The terms covered transaction, debarred, suspended, ineligible, lower tier covered transaction, participant, person, primary covered transaction, principal, proposal, and voluntarily excluded, as used in this clause, have the meaning set out in the Definitions and Coverage sections of rules implementing Executive Order 12549. You may contact the person to which this proposal is submitted for assistance in obtaining a copy of those regulations.

5. The prospective lower tier participant agrees by submitting this proposal that, [[Page 33043]] should the proposed covered transaction be entered into, it shall not knowingly enter into any lower tier covered transaction with a person who is proposed for debarment under 48 CFR part 9, subpart 9.4, debarred, suspended, declared ineligible, or voluntarily excluded from participation in this covered transaction, unless authorized by the department or agency with which this transaction originated.

6. the prospective lower tier participant further agrees by submitting this proposal that it will include this clause titled “Certification Regarding Debarment, Suspension, Ineligibility and Voluntary Exclusion-Lower Tier Covered Transaction,” without modification, in all lower tier covered transactions and in all solicitations for lower tier covered transactions.

7. A participant in a covered transaction may rely upon a certification of a prospective participant in a lower tier covered transaction that it is not proposed for debarment under 48 CFR part 9, subpart 9.4, debarred, suspended, ineligible, or voluntarily excluded from covered transactions, unless it knows that the certification is erroneous. A participant may decide the method and frequency by which it determines the eligibility of its principals. Each participant may, but is not required to, check the List of Parties Excluded from Federal Procurement and Nonprocurement Programs.

8. Nothing contained in the foregoing shall be construed to require establishment of a system of records in order to render in good faith the certification required by this clause. The knowledge and information of a participant is not required to exceed that which is normally possessed by a prudent person in the ordinary course of business dealings.

9. Except for transactions authorized under paragraph 5 of these instructions, if a participant in a covered transaction knowingly enters into a lower tier covered transaction with a person who is proposed for debarment under 48 CFR part 9, subpart 9.4, suspended, debarred, ineligible, or voluntarily excluded from participation in this transaction, in addition to other remedies available to the Federal Government, the department or agency with which this transaction originated may pursue available remedies, including suspension and/or debarment.

Certification Regarding Debarment, Suspension, Ineligibility an Voluntary Exclusion—Lower Tier Covered Transactions

(1) The prospective lower tier participant certifies, by submission of this proposal, that neither it nor its principals is presently debarred, suspended, proposed for debarment, declared ineligible, or voluntarily excluded from participation in this transaction by any Federal department or agency.

(2) Where the prospective lower tier participant is unable to certify to any of the statements in this certification, such prospective participant shall attach an explanation to this proposal.

Attachment F

Certification Regarding Environmental Tobacco Smoke

Public Law 103227, Part C Environmental Tobacco Smoke, also known as the Pro Children Act of 1994, requires that smoking not be permitted in any portion of any indoor routinely owned or leased or contracted for by an entity and used routinely or regularly for provision of health, day care, education, or library services to children under the age of 18, if the services are funded by Federal programs either directly or through State or local governments, by Federal grant, contract, loan, or loan guarantee. The law does not apply to children's services provided in private residences, facilities funded solely by Medicare or Medicaid funds, and portions of facilities used for inpatient drug or alcohol treatment. Failure to comply with the provisions of the law may result in the imposition of a civil monetary penalty of up to $1000 per day and/or the imposition of any administrative compliance order on the responsibility entity. By signing and submitting this application the applicant/grantee certifies that it will comply with the requirements of the Act.

The applicant/grantee further agrees that it will require the language of this certification be included in any standards which contain provisions for the children's services and that all subgrantees shall certify accordingly.

Attachment G

It is estimated that in 2001 the Federal Government will outlay $305.6 billion in grants to State and local governments. Executive Order 12372, “Intergovernmental Review of Federal Programs,” was issued with the desire to foster the intergovernmental partnership and strengthen federalism by relying on State and local processes for the coordination and review of proposed Federal financial assistance and direct Federal development. The Order allows each State to designate an entity to perform this function. Below is the official list of those entities. For those States that have a home page for their designated entity, a direct link has been provided below. States that are not listed on this page have chosen not to participate in the intergovernmental review process, and therefore do not have a SPOC. If you are located within one of these States, you may still send application materials directly to a Federal awarding agency.

Arkansas

Tracy L. Copeland

Manager, State Clearinghouse

Office of Intergovernmental Services

Department of Finance and Administration

1515 W. 7th St., Room 412

Little Rock, Arkansas 72203

Telephone: (501) 682-1074

Fax: (501) 682-5206

tlcopeland@dfa.state.ar.us

California

Grants Coordination

State Clearinghouse

Office of Planning and Research

P.O. Box 3044, Room 222

Sacramento, California 95812-3044

Telephone: (916) 445-0613

Fax: (916) 323-3018

state.clearinghouse@opr.ca.gov

Delaware

Charles H. Hopkins

Executive Department

Office of the Budget

540 S. Dupont Highway, 3rd Floor

Dover, Delaware 19901

Telephone: (302) 739-3323

Fax: (302) 739-5661

chopkins@state.de.us

District of Columbia

Ron Seldon

Office of Grants Management and Development

717 14th Street, NW, Suite 1200

Washington, DC 20005

Telephone: (202) 727-1705

Fax: (202) 727-1617

ogmd-ogmd@dcgov.org

Florida

Cherie L. Trainor

Florida State Clearinghouse

Department of Community Affairs

2555 Shumard Oak Blvd.

Tallahassee, Florida 32399-2100

Telephone: (850) 922-5438

(850) 414-5495 (direct)

Fax: (850) 414-0479

cherie.trainor@dca.state.fl.us

Georgia

Georgia State Clearinghouse

270 Washington Street, SW

Atlanta, Georgia 30334

Telephone: (404) 656-3855

Fax: (404) 656-7901

gach@mail.opb.state.ga.us

Illinois

Virginia Bova

Department of Commerce and Community Affairs

James R. Thompson Center

100 West Randolph, Suite 3-400

Chicago, Illinois 60601

Telephone: (312) 814-6028

Fax: (312) 814-8485

vbova@commerce.state.il.us

Iowa

Steven R. McCann

Division of Community and Rural Development

Iowa Department of Economic Development

200 East Grand Avenue

Des Moines, Iowa 50309

Telephone: (515) 242-4719

Fax: (515) 242-4809

steve.mccann@ided.state.ia.us

Kentucky

Ron Cook

Department for Local Government

1024 Capital Center Drive, Suite 340

Frankfort, Kentucky 40601

Telephone: (502) 573-2382

Fax: (502) 573-2512

ron.cook@mail.state.ky.us

Maine

Joyce Benson

State Planning Office

184 State Street

38 State House Station

Augusta, Maine 04333

Telephone: (207) 287-3261

Fax: (207) 287-6489

joyce.benson@state.me.us

Maryland

Linda Janey

Manager, Clearinghouse and Plan Review Unit

Maryland Office of Planning

301 West Preston Street—Room 1104

Baltimore, Maryland 21201-2305

Telephone: (410) 767-4490

Fax: (410) 767-4480

linda@mail.op.state.md.us

Michigan

Richard Pfaff

Southeast Michigan Council of Governments

535 Griswold, Suite 300

Detroit, Michigan 48226

Telephone: (313) 961-4266

Fax: (313) 961-4869

pfaff@semcog.org

Mississippi

Cathy Mallette

Clearinghouse Officer

Department of Finance and Administration

550 High Street

303 Walters Sillers Building

Jackson, Mississippi 39201-3087

Telephone: (601) 359-6762

Fax: (601) 359-6758

Missouri

Lois Pohl

Federal Assistance Clearinghouse

Office of Administration

P.O. Box 809

Jefferson Building, Room 915

Jefferson City, Missouri 65102

Telephone: (573) 751-4834

Fax: (573) 522-4395

pohll_@mail.oa.state.mo.us

Nevada

Heather Elliott

Department of Administration

State Clearinghouse

209 E. Musser Street, Room 200

Carson City, Nevada 89701

Telephone: (775) 684-0209

Fax: (775) 684-0260

helliott@govmail.state.nv.us

New Hampshire

Jeffrey H. Taylor

Director, New Hampshire Office of State Planning

Attn: Intergovernmental Review Process

Mike Blake

2-1/2 Beacon Street

Concord, New Hampshire 03301

Telephone: (603) 271-2155

Fax: (603) 271-1728

jtaylor@osp.state.nh.us

New Mexico

Ken Hughes

Local Government Division

Room 201, Bataan Memorial Building

Sante Fe, New Mexico 87503

Telephone: (505) 827-4370

Fax: (505) 827-4948

khughes@dfa.state.nm.us

North Carolina

Jeanette Furney

Department of Administration

1302 Mail Service Center

Raleigh, North Carolina 27699-1302

Telephone: (919) 807-2323

Fax: (919) 733-9571

jeanette.furney@ncmail.net

North Dakota

Jim Boyd

Division of Community Services

600 East Boulevard Ave, Dept 105

Bismarck, North Dakota 58505-0170

Telephone: (701) 328-2094

Fax: (701) 328-2308

jboyd@state.nd.us

Rhode Island

Kevin Nelson

Department of Administration

Statewide Planning Program

One Capitol Hill

Providence, Rhode Island 02908-5870

Telephone: (401) 222-2093

Fax: (401) 222-2083

knelson@doa.state.ri.us

South Carolina

Omeagia Burgess

Budget and Control Board

Office of State Budget

1122 Ladies Street, 12th Floor

Columbia, South Carolina 29201

Telephone: (803) 734-0494

Fax: (803) 734-0645

aburgess@budget.state.sc.us

Texas

Denise S. Francis

Director, State Grants Team

Governor's Office of Budget and Planning

P.O. Box 12428

Austin, Texas 78711

Telephone: (512) 305-9415

Fax: (512) 936-2681

dfrancis@governor.state.tx.us

Utah

Carolyn Wright

Utah State Clearinghouse

Governor's Office of Planning and Budget

State Capitol, Room 114

Salt Lake City, Utah 84114

Telephone: (801) 538-1535

Fax: (801) 538-1547

cwright@gov.state.ut.us

West Virginia

Fred Cutlip, Director

Community Development Division

West Virginia Development Office

Building #6, Room 553

Charleston, West Virginia 25305

Telephone: (304) 558-4010

Fax: (304) 558-3248

fcutlip@wvdo.org

Wisconsin

Jeff Smith

Section Chief, Federal/State Relations

Wisconsin Department of Administration

101 East Wilson Street—6th Floor

P.O. Box 7868

Madison, Wisconsin 53707

Telephone: (608) 266-0267

Fax: (608) 267-6931

jeffrey.smith@doa.state.wi.us

Guam

Director

Bureau of Budget and Management Research

Office of the Governor

P.O. Box 2950

Agana, Guam 96910

Telephone: 011-671-472-2285

Fax: 011-472-2825

jer@ns.gov.gu

Puerto Rico

Jose Caballero/Mayra Silva

Puerto Rico Planning Board

Federal Proposals Review Office

Minillas Government Center

P.O. Box 41119

San Juan, Puerto Rico 00940-1119

Telephone: (787) 723-6190

Fax: (787) 722-6783

North Mariana Islands

Ms. Jacoba T. Seman

Federal Programs Coordinator

Office of Management and Budget

Office of the Governor

Saipan, MP 96950

Telephone: (670) 664-2289

Fax: (670) 664-2272

omb.jseman@saipan.com

Virgin Islands

Ira Mills

Director, Office of Management and Budget

#41 Norre Gade Emancipation Garden Station, Second Floor

Saint Thomas, Virgin Islands 00802

Telephone: (340) 774-0750

Fax: (340) 776-0069

Irmills@usvi.org

Changes to this list can be made only after OMB is notified by a State's officially designated representative. E-mail messages can be sent to grants@omb.eop.gov If you prefer, you may send correspondence to the following postal address: Attn: Grants Management, Office of Management and Budget, New Executive Office Building, Suite 6025, 725 17th Street, NW, Washington, DC 20503.

Please note: Inquiries about obtaining a Federal grant should not be sent to the OMB e-mail or postal address shown above. The best source for this information is the CFDA.

Attachment H

Department of Health and Human Services (DHHS) Regulations Applying to All Applicants/Grantees Under The Community Food and Nutrition Program

Title 45 of the Code of Federal Regulations

Part 16—DHHS Grant Appeals Process

Part 74—Administration of Grants (non-governmental)

Part 74—Administration of Grants (state and local governments and Indian Tribal affiliates):

Sections

74.26—Non-Federal Audits

74.27—Allowable cost for hospitals and non-profit organizations among other things

74.32—Real Property

74.34—Equipment

74.35—Supplies

74.24—Program Income

Part 75—Informal Grant Appeals Procedures

Part 76—Debarment and Suspension from Eligibility For Financial Assistance

Subpart F—Drug Free Workplace Requirements

Part 80—Non-discrimination Under Programs Receiving Federal Assistance through DHHS Effectuation of Title VI of the Civil Rights Act of 1964

Part 81—Practice and Procedures for Hearings Under Part 80 of this Title

Part 83—Regulation for the Administration and Enforcement of Sections 799A and 845 of the Public Health Service Act

Part 84—Non-discrimination on the Basis of Handicap in Programs and Activities Receiving Federal Financial Assistance

Part 85—Enforcement of Non-discrimination on the Basis of Handicap in Programs or Activities Conducted by DHHS

Part 86—Non-discrimination on the Basis of Sex in Education Programs and Activities Receiving or Benefitting from Federal Financial Assistance

Part 91—Non-discrimination on the Basis of Age in Health and Human Services programs or Activities Receiving Federal Financial Assistance

Part 92—Uniform Administrative Requirements for Grants and Cooperative Agreements to States and Local Governments (Federal Register, March 11, 1988)

Part 93—New Restrictions on Lobbying

Part 100—Intergovernmental Review of DHHS Programs and Activities

BILLING CODE 4184-01-P

[FR Doc. 01-7337 Filed 3-23-01; 8:45 am]

BILLING CODE 4184-01-C